DEPARTMENT OF JUSTICE

[OMB Number 1140—NEW]

Agency Information Collection Activities; Proposed eCollection eComments Requested; Tobacco Inventory Report and Direct Sales Report

AGENCY: Bureau of Alcohol, Tobacco, Firearms and Explosives; Department of Justice.

ACTION: 60-day notice.

SUMMARY: The Department of Justice (DOJ), Bureau of Alcohol, Tobacco, Firearms and Explosives (ATF), will submit the following information collection request to the Office of Management and Budget (OMB) for review and approval in accordance with the Paperwork Reduction Act of 1995. The proposed information collection is published to obtain comments from the public and affected agencies.

DATES: Comments are encouraged and will be accepted for 60 days until June 2, 2014.

FOR FURTHER INFORMATION CONTACT: If you have additional comments especially on the estimated public burden or associated response time, suggestions, or need a copy of the proposed information collection instrument with instructions or additional information, please contact Joseph Fox, Chief, Alcohol and Tobacco Enforcement Branch, Bureau of Alcohol, Tobacco, Firearms and Explosives, 99 New York Avenue NE., Washington, DC 20226 or at Joseph.Fox@atf.gov.

SUPPLEMENTARY INFORMATION: This process is conducted in accordance with 5 CFR 1320.10. Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: New Collection.

2. The Title of the Form/Collection: Tobacco Inventory Report and Direct Sales Report.

3. The agency form number, if any, and the applicable component of the Department sponsoring the collection:

Form number(s): ATF Form 5200.25 and ATF Form 5200.26.

Component: Bureau of Alcohol, Tobacco, Firearms and Explosives, U.S. Department of Justice.

4 Affected public who will be asked or required to respond, as well as a brief abstract:

Primary: Business or other for-profit.

Other: None.

Abstract: The amendment of the Contraband Cigarette Trafficking Act (CCTA) requires a person who sells more than 10,000 cigarettes or more than 500 single-unit consumer-sized cans or packages of smokeless tobacco per month and conducts non-face-to-face consumer sales must report to ATF specific information regarding their inventory and those sales. These forms will be used to report tobacco inventory and sales and identify persons or businesses that are selling and moving tobacco products illegally.

5. An estimate of the total number of respondents and the amount of time estimated for an average respondent to respond: An estimated 3,000 respondents will take 1 hour each month to complete ATF Form 5200.25; and 3,500 respondents will take 30 minutes each month to complete ATF Form 5200.26. The combined estimated total number of respondents for this collection is 6,500.

6. An estimate of the total public burden (in hours) associated with the collection: The estimated public burden associated with this collection is 57,000 hours. It is estimated that respondents for ATF Form 5200.25 will take 36,000 hours annually; and respondents for ATF Form 5200.26 will take 21,000 hours annually.

If additional information is required contact: Jerri Murray, Department Clearance Officer, United States Department of Justice, Justice Management Division, Policy and Planning Staff, Two Constitution Square, 145 N Street NE., 3W-1407B, Washington, DC 20530.

Dated: March 27, 2014.
Jerri Murray,
Department Clearance Officer for PRA, U.S. Department of Justice.

[FR Doc. 2014-07301 Filed 4-1-14; 8:45 am]

BILLING CODE 4410-FY-P